DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 and Title 30 of the Code of Federal Regulations govern the application, processing, and disposition of petitions for modification of mandatory safety standards. Any mine operator or representative of miners may petition for an alternative method of complying with an existing safety standard. MSHA reviews the content of each submitted petition, assesses the mine in question, and ultimately issues a decision on the petition. This notice includes a list of petitions for modification that were granted after MSHA's review and investigation, between December 15, 2020, and June 30, 2021.

ADDRESSES: Copies of the final decisions are posted on MSHA's website at https://www.msha.gov/regulations/rulemaking/petitions-modification. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Jessica D. Senk, Director, Office of Standards, Regulations, and Variances at 202-693-9440 (voice), Senk.Jessica@dol.gov (email), or 202-693-9441 (facsimile). [These are not toll-free numbers.]

SUPPLEMENTARY INFORMATION:

I. Introduction

Under section 101 of the Federal Mine Safety and Health Act of 1977, any mine operator or representative of miners may petition to use an alternative approach to comply with a safety standard. In response, the Secretary of Labor (Secretary) or his or her designee may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision. In other instances, MSHA may deny, dismiss, or revoke a petition for modification. In accordance with 30 CFR 44.5, MSHA publishes every final action granting a petition for modification.

II. Granted Petitions for Modification

On the basis of the findings of MSHA's investigation, and as designee of the Secretary, MSHA granted or partially granted the petitions for modification below. Since the previous Federal Register notice (86 FR 319) included petitions granted through December 14, 2020, listed below are petitions granted between December 15, 2020 and June 30, 2021. The granted petitions are shown in the order that MSHA received them.

• Docket Number: M-2019-057-C

FR Notice: 84 FR 70569 (12/23/2019).

Petitioner: Marfork Coal Company, LLC, P.O. Box 457, Whitesville, WV 25209.

Mine: Black Eagle, MSHA I.D. No. 46-09550, located in Raleigh County, West Virginia.

Regulation Affected: 30 CFR 75.1700 (Oil and gas wells).

• Docket Number: M-2019-058-C

FR Notice: 85 FR 4709 (01/27/2020)

Petitioner: Peabody Midwest Mining, LLC, 7100 Eagle Crest Blvd., Evansville, IN 47715.

Mine: Francisco Underground Pit, MSHA I.D. No. 12-02295, located in Gibson County, IN.

Regulation Affected: 30 CFR 75.500(d) (Permissible electric equipment).

• Docket Number: M-2019-059-C

FR Notice: 85 FR 4709 (01/27/2020).

Petitioner: Peabody Midwest Mining, LLC, 7100 Eagle Crest Blvd., Evansville, IN 47715.

Mine: Francisco Underground Pit, MSHA I.D. No. 12-02295, located in Gibson County, IN.

Regulation Affected: 30 CFR 75.507-1(a) (Electric equipment other than power-connection points; outby the last open crosscut; return air; permissibility requirements).

• Docket Number: M-2019-060-C

FR Notice: 85 FR 4709(01/27/2020).

Petitioner: Peabody Midwest Mining, LLC, 7100 Eagle Crest Blvd., Evansville, IN 47715.

Mine: Francisco Underground Pit, MSHA I.D. No. 12-02295, located in Gibson County, IN.

Regulation Affected: 30 CFR 75.1002(a) (Installation of electric equipment and conductors; permissibility).

• Docket Number: M-2019-068-C

FR Notice: 85 FR 29751 (05/18/2020).

Petitioner: Peabody Twentymile Mining, LLC, 29515 Route County Road #27, Oak Creek, CO 80467.

Mine: Foidel Creek Mine, MSHA I.D. No. 05-03836, located in Routt County, Colorado.

Regulation Affected: 30 CFR 75.507-1(a) (Electric equipment other than power-connection points; outby the last open crosscut; return air; permissibility requirements).

• Docket Number: M-2019-069-C

FR Notice: 85 FR 29751 (05/18/2020).

Petitioner: Peabody Twentymile Mining, LLC, 29515 Route County Road #27, Oak Creek, CO 80467.

Mine: Foidel Creek Mine, MSHA I.D. No. 05-03836, located in Routt County, Colorado.

Regulation Affected: 30 CFR 75.1002(a) (Installation of electric equipment and conductors; permissibility).

• Docket Number: M-2020-005-C

FR Notice: 85 FR 20528 (04/13/2020).

Petitioner: Affinity Coal Company, 111 Affinity Complex Rd., Sophia, WV 25878.

Mine: Affinity Mine, MSHA I.D. No. 46-08878, located in Raleigh County, West Virginia.

Regulation Affected: 30 CFR 75.1700 (Oil and gas wells).

• Docket Number: M-2020-008-C

FR Notice: 85 FR 47404 (08/05/2020).

Petitioner: Century Mining LLC, 200 Chapel Brook Drive, Bridgeport, West Virginia 26330.

Mine: Longview Mine, MSHA I.D. No. 46-09447, located in Barbour County, West Virginia.

Regulation Affected: 30 CFR 75.500(d) (Permissible electric equipment).

• Docket Number: M-2020-010-C

FR Notice: 85 FR 47404 (08/05/2020).

Petitioner: Century Mining LLC, 200 Chapel Brook Drive, Bridgeport, West Virginia 26330.

Mine: Longview Mine, MSHA I.D. No. 46-09447, located in Barbour County, West Virginia.

Regulation Affected: 30 CFR 75.1700 (Oil and gas wells).

• Docket Number: M-2020-003-M

FR Notice: 85 FR 58396 (09/18/2020).

Petitioner: Solvay Chemicals, Inc., P.O. Box 1167, Green River, WY 82935.

Mine: Solvay Chemicals, Inc., MSHA I.D. No. 48-01295, located in Sweetwater County, WY.

Regulation Affected: 30 CFR 57.22305 (Approved equipment (III mines)).

• Docket Number: M-2020-022-C

FR Notice: 85 FR 66582 (10/20/2020).

Petitioner: Century Mining LLC, 200 Chapel Brook Drive, Bridgeport, West Virginia 26330.

Mine: Longview Mine, MSHA I.D. No. 46-09447, located in Barbour County, West Virginia.

Regulation Affected: 30 CFR 75.507-1 (Electric equipment other than power-connection points; outby the last open crosscut; return air; permissibility requirements).

• Docket Number: M-2020-024-C

FR Notice: 85 FR 66582 (10/20/2020).

Petitioner: Century Mining LLC, 200 Chapel Brook Drive, Bridgeport, West Virginia 26330.

Mine: Longview Mine, MSHA I.D. No. 46-09447, located in Barbour County, West Virginia.

Regulation Affected: 30 CFR 75.1002 (Installation of electric equipment and conductors; permissibility).

• Docket Number: M-2020-029-C

FR Notice: 85 FR 70196 (11/04/2020).

Petitioner: Canyon Fuel Company, LLC, 597 South SR 24, Salina, UT 84654.

Mine: Sufco Mine, MSHA I.D. No. 42-00089, located in Sevier County, Utah.

Regulation Affected: 30 CFR 75.500 (Permissible electric equipment).

• Docket Number: M-2020-030-C

FR Notice: 85 FR 70196 (11/04/2020).

Petitioner: Canyon Fuel Company, LLC, 597 South SR 24, Salina, UT 84654.

Mine: Sufco Mine, MSHA I.D. No. 42-00089, located in Sevier County, Utah.

Regulation Affected: 30 CFR 75.507-1 (Electric equipment other than power-connection points; outby the last open crosscut; return air; permissibility requirements).

• Docket Number: M-2020-032-C

FR Notice: 85 FR 71661 (11/10/2020).

Petitioner: Canyon Fuel Company, LLC, HC 35 Box 380, Helper, UT 84526.

Mine: Skyline Mine, MSHA I.D. No. 42-01566, located in Carbon County, Utah.

Regulation Affected: 30 CFR 75.500(d) (Permissible electric equipment).

• Docket Number: M-2020-033-C

FR Notice: 85 FR 71661 (11/10/2020).

Petitioner: Canyon Fuel Company, LLC, HC 35 Box 380, Helper, UT 84526.

Mine: Skyline Mine, MSHA I.D. No. 42-01566, located in Carbon County, Utah.

Regulation Affected: 30 CFR 75.507-1 (Electric equipment other than power-connection points; outby the last open crosscut; return air; permissibility requirements).

• Docket Number: M-2021-001-C

FR Notice: 86 FR 11333 (02/24/2021).

Petitioner: Patton Mining LLC., 12051 9th Avenue, Hillsboro, Illinois 62049.

Mine: Deer Run Mine, MSHA I.D. No. 11-03182, located in Montgomery County, Illinois.

Regulation Affected: 30 CFR 75.1909 (Nonpermissible diesel-powered equipment; design and performance requirements).

Jessica Senk,
Director, Office of Standards, Regulations, and Variances.

[FR Doc. 2021-16369 Filed 7-30-21; 8:45 am]

BILLING CODE 4520-43-P